COMMODITY FUTURES TRADING COMMISSION

Sunshine Act Meeting Notice

Agency Holding the Meeting: Commodity Futures Trading Commission.

Date and Time: Tuesday, April 27, 2010 at 9:30 a.m.

Place: Three Lafayette Centre, 1155 21st St., NW., Washington, DC, Lobby Level Hearing Room (Room 1000).

Status: Open.

Matters To Be Considered: Public meeting to consider whether the following contracts offered for trading on the IntercontinentalExchange, Inc. (“ICE”), the Natural Gas Exchange, Inc. (“NGX”) or the Chicago Climate Exchange, Inc. (“CCX”) perform a significant price discovery function: (1) AECO Financial Basis Contract (ICE); (2) NWP Rockies Financial Basis Contract (ICE); (3) HSC Financial Basis Contract (ICE); (4) PG&E Citygate Financial Basis Contract (ICE); (5) TCO Financial Basis Contract (ICE); (6) Waha Financial Basis Contract (ICE); (7) Permian Financial Basis Contract (ICE); (8) Zone 6-NY Financial Basis Contract (ICE); (9) Malin Financial Basis Contract (ICE); (10) Dominion-South Financial Basis Contract (ICE); (11) TETCO-M3 Financial Basis Contract (ICE); (12) NGPL TXOK Financial Basis Contract (ICE); (13) San Juan Financial Basis Contract (ICE); (14) Chicago Financial Basis Contract (ICE); (15) Socal Financial Basis Contract (ICE); (16) Henry Financial Basis Contract (ICE); (17) Henry Financial Index Contract (ICE); (18) Henry Financial Swing Contract (ICE); (19) Phys, BS, LD1 (US/MM), AB-NIT Contract (NGX); (20) Phys, BS, LD1 (US/MM), Union-Dawn Contract (NGX); (21) Phys, FP, LD1 (CA/GJ), AB-NIT Contract (NGX); (22) Phys, FP, LD1 (US/MM), Union-Dawn Contract (NGX); (23) Phys, ID, 7a (CA/GJ), AB-NIT Contract (NGX); and (24) Carbon Financial Instrument Contract (CCX).

Contact Person: Gregory Price, Industry Economist, Commodity Futures Trading Commission, 202-418-5515.

Dated: April 16, 2010.
David A. Stawick,
Secretary of the Commission.

[FR Doc. 2010-9372 Filed 4-19-10; 4:15 pm]

BILLING CODE 6351-01-P